DEPARTMENT OF AGRICULTURE

Submission for OMB Review; Comment Request

March 13, 2008.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Prince William Sound User Experience Survey.

Omb Control Number: 0596-NEW.

Summary of Collection: Prince William Sound (PWS), the geographic heart of the Chugach National Forest (CNF), was severely impacted by the Exxon Valdez oil spill (EVOS) in 1989. In the aftermath of the spill, a council of federal and state trustees (EVOS Trustee Council) was awarded criminal and civil restitution funds to help with the recovery, and the evaluation of the recovery, of injured natural resources and human services. The Prince William Sound User Experience Survey aims to advance understanding of the status of recovery for the recreation/tourism human service still defined by EVOS trustees as “recovering” and not yet fully “recovered.” It also aims to identify potential impacts to the recovery of other injured goods and services.

Need and Use of the Information: The survey will aid in evaluating the potential for conflict among user groups and the possibility of displacement resulting from those interactions. Additionally, it will investigate recreation/tourism user perceptions about lingering oil and evaluate how those perceptions may affect experience. The data will be used by managers to determine use patterns for the PWS, giving decision makers insight into the recovery of injured resources and human services, which were redistributed around the PWS in the aftermath of EVOS. The data will also provide managers with the ability to protect and restore EVOS injured resources and human services during a time of increasing human use in the PWS.

Description of Respondents: Individuals or households.

Number of Respondents: 500.

Frequency of Responses: Reporting: Annually.

Total Burden Hours: 167.

Charlene Parker,
Departmental Information Collection Clearance Officer.

[FR Doc. E8-5404 Filed 3-17-08; 8:45 am]

BILLING CODE 3410-11-P